DEPARTMENT OF ENERGY

National Energy Technology Laboratory; Notice of Availability of a Financial Assistance Solicitation

AGENCY: National Energy Technology Laboratory (NETL), Department of Energy (DOE).

ACTION: Notice of Availability of a Financial Assistance Solicitation.

SUMMARY: Notice is hereby given of the intent to issue Financial Assistance Solicitation No. DE-PS26-02NT15378 entitled “Identification and Demonstration of Preferred Upstream Management Practices III (PUMP III) for the Oil Industry.” The Department of Energy (DOE) National Energy Technology Laboratory (NETL), on behalf of its National Petroleum Technology Office (NTPO), seeks cost-shared research and development applications for identification of preferred management practices (PMP) addressing a production barrier in a region and the documentation of these practices for use by the oil industry. Applications will either address (1) The solutions to a technical barrier to production in a region through identification, demonstration, and evaluation of suitable PMP's or (2) they will apply research or analysis to overcome an environmental regulatory barrier. The near-term goal is to address regional barriers whose resolution or removal would result in an increase in near-term oil production from onshore or offshore Federal, State, tribal or private land.

DATES: The solicitation will be available on the “Industry Interactive Procurement System” (IIPS) Web page located at http://e-center.doe.gov on or about February 4, 2002. Applicants can obtain access to the solicitation from the address above or through DOE/NETL's Web site at http://www.netl.doe.gov/business.

FOR FURTHER INFORMATION CONTACT: Mary Beth Pearse MS 921-107, U.S. Department of Energy, National Energy Technology Laboratory, 626 Cochrans Mill Rd., P.O. Box 10940, Pittsburgh, PA 15236-0940, E-mail Address: pearse@netl.doe.gov.

SUPPLEMENTARY INFORMATION: The National Petroleum Technology Office of the Department of Energy (DOE) Office of Fossil Energy (FE) National Energy Technology Lab (NETL) is soliciting cost-shared applications for identification of preferred management practices (PMP) addressing production and data-sharing solutions to a production barrier in a region and the documentation of these practices for use by the industry. The near-term goal is to increase current domestic oil production quickly.

The mission of the Department of Energy's Fossil Energy Oil Program is derived from the National need for increased oil production for national security, requirements for Federal Lands stewardship, and increased protection of the environment. The Oil Program develops unique technologies and processes to locate untapped oil resources; extend the life of domestic energy resources; and reduce well abandonment—all essential to maximizing the production of domestic resources while protecting the environment. The National Energy Policy in providing energy for a new century supports efforts to increase oil and gas recovery from existing wells through new technology (NEP, Chapter 5, May 2001). The Preferred Upstream Management Practices III (PUMP III) Program continues an effort to meet the NEP goal, by encouraging implementation of the most promising and environmentally protective advanced technologies for optimizing the recovery of the Nation's valuable oil resources.

The program will accept proposals for cost-shared research and development applications for identification of preferred management practices (PMP) addressing a production barrier in a region and the documentation of these practices for use by the oil industry. Applications will either address (1) The solutions to a technical barrier to production in a region through identification, demonstration, and evaluation of suitable PMP's or (2) they will apply research or analysis to overcome an environmental regulatory barrier. The near-term goal is to address regional barriers whose resolution or removal would result in an increase in near-term oil production from onshore or offshore Federal, State, tribal or private land.

Barriers can be identified as technical, physical, regulatory, environmental, or economic. The selected projects are expected to employ the following four (4) strategies in order to have a rapid impact on production: (1) Focus on regions that present the biggest potential for additional oil production quickly, (2) integrate solutions to technological, economic, regulatory, and data constraints, (3) demonstrate the validity of these practices either through field demonstration during the project or documentation of well-run successful past demonstration, and (4) use known technology transfer mechanisms.

Using a regional approach where the projects will have a wide applicability, an integrated approach scheduling tasks along parallel paths to facilitate a quicker response, and operating with existing networks, the production results in the field should be accelerated. The documentation and evaluation of the PMP will be a valuable resource to all producers in the applicable area and possibly other regions as well.

Projects will demonstrate practices and/or technologies that can increase production, increase cost savings, or rapid returns on the capital investments of the operators. New technologies/processes or under-used but effective applications of existing technologies/processes critical to a region will be demonstrated. Some proposals will develop data, systems, or methodologies that enable oil permitting agencies to make decisions more quickly and/or that are based on better scientific information about the environmental risks of a given operation.

This program expects near-term results and actions that will create data or technological resources suitable for long-term use. Teaming is encouraged and the proposal partners could include, but not be limited to, producers, producer organizations, universities, service companies, State agencies or organizations, non-Federal research laboratories, and Native American Tribes or Corporations. The DOE will make publicly available over the Internet the data on preferred practices resulting from this program. The resulting publicly available databases of the preferred practices will be interactive, Internet accessible, should include both technologies and practices, and address constraints in the exploration, production, or environmental areas.

DOE anticipates issuing financial assistance (Cooperative Agreement) awards. DOE reserves the right to support or not support, with or without discussions, any or all applications received in whole or in part, and to determine how may awards will be made. Multiple awards are anticipated. Approximately $6 million of DOE funding is planned over a 2 year period for this solicitation. The program seeks to sponsor projects for a single budget/project period of 24 months or less. Due to the low risk and near-term nature of the PUMP program and the potential for a process or technology demonstration, all applicants are required to cost share at a minimum of 50% of the project total for projects submitted under Area 1 and 20% of the project total for projects submitted under Area 2. Details of the cost sharing requirement, and the specific funding levels are contained in the solicitation.

Once released, the solicitation will be available for downloading from the IIPS internet page. At this Internet site you will also be able to register with IIPS, enabling you to submit an application. If you need technical assistance in registering or for any other IIPS function, call the IIPS Help Desk at (800) 683-0751, or e-mail the Help Desk personnel at IIPS HelpDesk@e-center.doe.gov. The solicitation will only be made available in IIPS, no hard (paper) copies of the solicitation and related documents will be made available.

Prospective applicants who would like to be notified as soon as the solicitation is available should subscribe to the Business Alert Mailing List at http://www.netl.doe.gov/business. Once you subscribe, you will receive an announcement by E-mail that the solicitation has been released to the public. Telephone requests, written requests, E-mail requests, or facsimile requests for a copy of the solicitation package will not be accepted and/or honored. Applications must be prepared and submitted in accordance with the instructions and forms contained in the solicitation. The actual solicitation document will allow for requests for explanation and/or interpretation.

Issued in Pittsburgh, PA on 28 January 2002.
Dale A. Siciliano,
Deputy Director, Acquisition and Assistance Division.

[FR Doc. 02-2711 Filed 2-4-02; 8:45 am]

BILLING CODE 6450-01-P